DEPARTMENT OF THE INTERIOR

Bureau of Land Management

[LLWO220000.L63100000.PH0000; OMB Control Number 1004-0058]

Agency Information Collection Activities; Forest Management Decision Protest Process and Log Export and Substitution

AGENCY: Bureau of Land Management, Interior.

ACTION: Notice of information collection; request for comment.

SUMMARY: In accordance with the Paperwork Reduction Act of 1995, we, the Bureau of Land Management (BLM), are proposing to renew an information collection with revisions.

DATES: Interested persons are invited to submit comments on or before February 26, 2019.

ADDRESSES: Send your comments on this information collection request (ICR) by mail to the U.S. Department of the Interior, Bureau of Land Management, 1849 C Street NW, Room 2134LM, Washington, DC 20240, Attention: Jean Sonneman; or by email to jesonnem@blm.gov. Please reference OMB Control Number 1004-0058 in the subject line of your comments.

FOR FURTHER INFORMATION CONTACT: To request additional information about this ICR, contact Christian Schumacher by email at c1schuma@blm.gov, or by telephone at 202-912-7433.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comments addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Control number 1004-0058, as currently approved, authorizes the collection of information that assists the BLM in enforcing timber export and substitution prohibitions.

The BLM now requests that control number 1004-0058 be renewed and revised by adding 2 information collection activities that have been in use without a control number.

One addition, “Log Scale and Disposition of Timber Removed Report,” requires purchasers of Federal timber to report volumes of timber removed from Federal lands, and to identify processors of timber. Like the previously approved information collection activities, this activity assists the BLM in enforcing timber export and substitution prohibitions.

The other addition, “Protests,” provides an opportunity to seek administrative remedies for forest management decisions.

Title of Collection: Forest Management Decision Protest Process and Log Export and Substitution.

OMB Control Number: 1004-0058.

Form Numbers: 5450-17, 5460-15, and 5460-17.

Type of Review: Revision of a currently approved collection.

Respondents/Affected Public: Purchasers of Federal timber, their affiliates, and any person who wishes to protest a BLM forest management decision.

Total Estimated Number of Annual Respondents: 325.

Total Estimated Number of Annual Responses: 325.

Estimated Completion Time per Response: Varies from 1 to 10 hours, depending on activity.

Total Estimated Number of Annual Burden Hours: 550.

Respondent's Obligation: Required to Obtain or Retain a Benefit.

Frequency of Collection: On occasion.

Total Estimated Annual Nonhour Burden Cost: $0.

An agency may not conduct or sponsor, and a person is not required to respond to, a collection of information unless it displays a currently valid OMB control number.

The authority for this action is the Paperwork Reduction Act of 1995(44 U.S.C. 3501 et seq).

Jean Sonneman,
Information Collection Clearance Officer, Bureau of Land Management.

[FR Doc. 2018-28288 Filed 12-27-18; 8:45 am]

BILLING CODE 4310-84-P